DEPARTMENT OF THE INTERIOR

Fish and Wildlife Service

[FWS-R7-ES-2019-N003; FF07CAMM00-FX-ES111607MRG01]

Marine Mammals; Letters of Authorization To Take Pacific Walrus and Polar Bears in the Beaufort and Chukchi Seas, Alaska, in 2018

AGENCY: Fish and Wildlife Service, Interior.

ACTION: Notice of issuance.

SUMMARY: In accordance with the Marine Mammal Protection Act of 1972, as amended, the U.S. Fish and Wildlife Service has issued Letters of Authorization (LOA) for the nonlethal take of polar bears and Pacific walruses incidental to oil and gas industry exploration, development, and production activities in the Beaufort Sea and the adjacent northern coast of Alaska. This notice announces a list of the LOAs that were issued just prior to and during 2018. The LOAs stipulate conditions and methods that minimize impacts to polar bears and Pacific walruses from these activities. No LOAs were requested or issued in 2018 for the nonlethal take of polar bears and Pacific walruses incidental to oil and gas industry exploration activities in the Chukchi Sea and adjacent western coast of Alaska.

ADDRESSES: The Letters of Authorization listed in this notice are available electronically at the following location: http://www.fws.gov/alaska/fisheries/mmm/itr.htm.

FOR FURTHER INFORMATION CONTACT: Mr. Christopher Putnam at the U.S. Fish and Wildlife Service, Marine Mammals Management Office, 1011 East Tudor Road, MS 341, Anchorage, Alaska 99503; 800-362-5148 or 907-786-3844.

SUPPLEMENTARY INFORMATION: On August 5, 2016, the U.S. Fish and Wildlife Service published in the Federal Register a final rule (81 FR 52276) establishing regulations that allow us to authorize the nonlethal, incidental, unintentional take of small numbers of polar bears (Ursus maritimus) and Pacific walruses (Odobenus rosmarus divergens) during year-round oil and gas industry exploration, development, and production activities in the Beaufort Sea and adjacent northern coast of Alaska. The rule established subpart J in part 18 of title 50 of the Code of Federal Regulations (CFR) and is effective through August 5, 2021. The rule prescribed a process under which we issue Letters of Authorization (LOAs) to applicants conducting activities as described under the provisions of the regulations. This rule replaced a similar rule, published on August 3, 2011 (76 FR 47010), which expired on August 3, 2016, and likewise prescribed a process under which we issued such LOAs.

Each LOA stipulates conditions or methods that are specific to the activity and location. Holders of the LOAs must use methods and conduct activities in a manner that minimizes to the greatest extent practicable adverse impacts on Pacific walruses and polar bears and their habitat, and on the availability of these marine mammals for subsistence purposes. Intentional take and lethal incidental take are prohibited under these regulations.

In accordance with section 101(a)(5)(A) of the Marine Mammal Protection Act (MMPA; 16 U.S.C. 1361 et seq.) and our regulations at 50 CFR part 18, subpart J, in 2018 we issued LOAs to each of the following companies in the Beaufort Sea and adjacent northern coast of Alaska:

Beaufort Sea Letters of Authorization
Company | Activity | Project | LOA No.
ConocoPhillips Alaska, Inc | Exploration | Putu Exploration well | 17-12
Peak Oilfield Service Company, LLC | Support | Coastal transportation services | 18-01
Armstrong Energy, LLC | Exploration | Pikka #2 exploration | 18-02
Oil Search Alaska, Inc | Exploration | Transfer of Armstrong's LOA to Oil Search | 18-02
Hilcorp Alaska, LLC | Development | Liberty geotech sampling | 18-03
ConocoPhillips Alaska, Inc | Development | Seismic exploration and early development for GMT2 in the National Petroleum Reserve—Alaska (NPR-A) | 18-04
SAExploration, Inc | Exploration | Yukon 3d seismic | 18-05
BEM Systems, Incorporated | Remediation | Oliktok remediation and coastal erosion study | 18-06
Petrotechnical Resources of Alaska | Exploration | Methane hydrate exploration on the North slope | 18-07
BP Exploration (Alaska), Inc | Remediation | Demolition of the Liberty rig | 18-08
Chevron Environmental Management Company | Remediation | Kalubik Creek | 18-09
Caelus Energy Alaska, LLC | Development | Nuna project | 18-10
ConocoPhillips Alaska, Inc | Exploration | Harrison Bay | 18-11
ConocoPhillips Alaska, Inc | Development | GMT-2 Development | 18-12
ConocoPhillips Alaska, Inc | Exploration | 2018-2019 NPR-A Exploration & Appraisal Drilling Program | 18-13
ConocoPhillips Alaska, Inc | Exploration | NPR-A geotech and weather station near Harrison Bay | 18-14
SAExploration, Inc | Exploration | Staines 3D seismic project | 18-15
BP Exploration (Alaska), Inc | Exploration | Greater Prudhoe Bay 3D Seismic Survey | 18-16

On June 12, 2013, we published in the Federal Register a final rule (78 FR 35364) establishing regulations that allowed us to authorize the nonlethal, incidental, unintentional take of small numbers of polar bears and Pacific walruses during year-round oil and gas industry exploration activities in the Chukchi Sea and adjacent western coast of Alaska. The rule established 50 CFR part 18 subpart I and was effective until June 11, 2018. The process under which we issue LOAs to applicants and the requirements that the holders of the LOAs must follow is the same as described above for LOAs issued under 50 CFR part 18, subpart J. We issued no LOAs under the subpart I regulations in 2018 prior to their expiration on June 12, 2018.

Authority: We issue this notice under the authority of the MMPA (16 U.S.C. 1361 et seq.).

Dated: February 13, 2019.
Karen P. Clark,
Acting Regional Director, Alaska Region.

[FR Doc. 2019-06955 Filed 4-8-19; 8:45 am]

BILLING CODE 4333-15-P